DEPARTMENT OF THE INTERIOR

Bureau of Land Management

[AK-930-1310-DB-CPAI]

Notice of Availability of the Record of Decision for the Alpine Satellite Development Plan

AGENCY: Bureau of Land Management, Interior.

ACTION: Notice of availability of record of decision (ROD).

SUMMARY: The Bureau of Land Management (BLM) announces the availability of the Alpine Satellite Development Plan Environmental Impact Statement (ASDP EIS) Record of Decision (ROD). The ASDP ROD approves satellite oil drilling and production pads and associated structures (roads, pipelines, gravel mine) and certain other activities proposed by ConocoPhillips Alaska, Inc. (CPAI) on BLM-managed lands in the National Petroleum Reserve—Alaska. Assistant Secretary Rebecca Watson signed the ROD on November 8, 2004.

ADDRESSES: Copies of the ROD are available at the Alaska State Office, Public Information Center at 222 West 7th Avenue, Anchorage, Alaska, 99513-7599 or upon request from that office by phoning (907) 271-5960 or Jim Ducker, Bureau of Land Management, Alaska State Office (931) 222 West 7th Avenue, Anchorage, Alaska 99513-7599; (907) 271-3130. The ROD may be viewed on BLM-Alaska's Web site at http://www.ak.blm.us.

FOR FURTHER INFORMATION CONTACT: Jim Ducker, BLM Alaska State Office, (907) 271-3130.

SUPPLEMENTARY INFORMATION: The ASDP EIS analyzed CPAI's proposal to develop oil accumulations from five satellite drilling and production pads, two of which would be on BLM-managed federal lands. The decisions in this ROD are limited to federal lands. BLM will issue permits and rights-of-way for the ASDP on federal lands following the State of Alaska's completion of its review of CPAI's coastal zone consistency certification and issuance of concurrence. Authorizations for development on non-federal lands will be issued by the U.S. Corps of Engineers (USACE), the U.S. Coast Guard (USCG), the U.S. Environmental Protection Agency (EPA), and the State of Alaska. In addition, these agencies will make decisions, within their respective authorities, on federal lands.

Dated: November 18, 2004.
Henri R. Bisson,
State Director.

[FR Doc. 04-26321 Filed 11-26-04; 8:45 am]

BILLING CODE 4310-AG-P